DEPARTMENT OF JUSTICE

[OMB Number 1110-0045]

Agency Information Collection Activities; Proposed eCollection eComments Requested; Revision of a Previously Approved Collection: Customer Satisfaction Assessment

AGENCY: Federal Bureau of Investigation Laboratory, Department of Justice.

ACTION: 60-Day notice.

SUMMARY: The Federal Bureau of Investigation Laboratory, Department of Justice (DOJ), will be submitting the following information collection request to the Office of Management and Budget (OMB) for review and approval in accordance with the Paperwork Reduction Act of 1995.

DATES: Comments are encouraged and will be accepted for 60 days until September 3, 2024.

FOR FURTHER INFORMATION CONTACT:

If you have additional comments especially on the estimated public burden or associated response time, suggestions, or need a copy of the proposed information collection instrument with instructions or additional information, please contact: Marsha Karas, 2501 Investigation Parkway, mkaras@fbi.gov or Lab_Cust_Survey@fbi.gov, 703-632-7023.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This collection is a brief questionnaire regarding contributors' satisfaction with the services provided by the Federal Bureau of Investigation Laboratory. This collection is needed to evaluate the quality of services provided by the Federal Bureau of Investigation Laboratory. The Federal Bureau of Investigation Laboratory is accredited by the ANSI National Accreditation Board (ANAB). A requirement for maintaining accreditation is to evaluate the level of service provided by the Federal Bureau of Investigation Laboratory to our customers. To meet this requirement the Federal Bureau of Investigation Laboratory is requesting its customers to complete and return the Customer Satisfaction Assessment.

Overview of This Information Collection

1. Type of Information Collection: Revision of a currently approved collection.

2. The Title of the Form/Collection: Customer Satisfaction Assessment.

3. The agency form number, if any, and the applicable component of the Department sponsoring the collection: The form number is FD-1000. The applicable component within the Department of Justice is the Federal Bureau of Investigation Laboratory Division (LD).

4. Affected public who will be asked or required to respond, as well as the obligation to respond: Affected Public: Respondents primarily include federal, state, tribal, and local law enforcement. Respondents also include the intelligence community, Department of Defense, and international police agencies personnel and/or crime laboratory personnel. The obligation to respond is voluntary.

5. The estimated number of respondents is 300/year. The time per response is 5 minutes to complete the form.

6. The estimated total annual burden associated with the collection is 25 hours.

7. An estimate of the total annual cost burden associated with the collection is $0.

Total Burden Hours
Activity | Number of respondents | Frequency | Total annual responses | Time per response | Total annual burden (hours)
Ex: Survey (individuals or households) | 300 | 1/annually | 300 | 5 min | 25
Unduplicated Totals | 300 |  | 300 |  | 25

If additional information is required contact: Darwin Arceo, Department Clearance Officer, United States Department of Justice, Justice Management Division, Policy and Planning Staff, Two Constitution Square, 145 N Street NE, 4W-218, Washington, DC.

Dated: June 24, 2024.
Darwin Arceo,
Department Clearance Officer for PRA, U.S. Department of Justice.

[FR Doc. 2024-14534 Filed 7-1-24; 8:45 am]

BILLING CODE 4410-02-P